DEPARTMENT OF HOUSING AND URBAN DEVELOPMENT

[Docket No. FR-5033-FA-03]

Announcement of Funding Awards for Fiscal Year 2004 for the Housing Choice Voucher Program

AGENCY: Office of the Assistant Secretary for Public and Indian Housing, HUD.

ACTION: Announcement of Fiscal Year 2004 awards.

SUMMARY: In accordance with Section 102(a)(4)(C) of the Department of Housing and Urban Development Reform Act of 1989, this document notifies the public of funding awards for Fiscal Year (FY) 2004 to housing agencies (HAs) under the Section 8 housing choice voucher program. The purpose of this notice is to publish the names, addresses, and the amount of the awards to HAs for non-competitive funding awards for housing conversion actions, public housing relocations and replacements, and HOPE VI voucher awards. Due to Congressional mandates and limited staff, these awards were not published in the Federal Register.

FOR FURTHER INFORMATION CONTACT: David A. Vargas, Director, Office of Housing Voucher Programs, Office of Public and Indian Housing, Department of Housing and Urban Development, 451 Seventh Street, SW., Room 4226, Washington, DC 20410-5000, telephone (202) 708-2815. Hearing- or speech-impaired individuals may call HUD's TTY number at (800) 927-7589. (Only the “800” telephone number is toll-free.)

SUPPLEMENTARY INFORMATION: The regulations governing the housing choice voucher program are published at 24 CFR 982. The regulations for allocating housing assistance budget authority under Section 213(d) of the Housing and Community Development Act of 1974 are published at 24 CFR Part 791, Subpart D.

The purpose of this rental assistance program is to assist eligible families to pay the rent for decent, safe, and sanitary housing. The FY2004 awardees announced in this notice were provided Section 8 funds on an as-needed, non-competitive basis, i.e., not consistent with the provisions of a Notice of Funding Availability (NOFAs).

Awards published under this notice were provided: (1) To assist families living in HUD-owned properties that are being sold; (2) to assist families affected by the expiration or termination of their project-based Section 8 contracts; (3) to assist families in properties where the owner has prepaid the HUD mortgage; (4) to provide relocation and replacement housing in connection with the demolition of public housing; (5) to provide replacement housing assistance for single room occupancy (SRO) units that fail housing quality standards (HQS); and (6) to assist families in public housing developments that are scheduled for demolition in connection with a HUD-approved HOPE VI Revitalization or Demolition Grant. Administrative fees were added to each assignment for the administration of housing choice vouchers awarded under this notice. In addition, special housing fees were included for applicable Housing tenant protection awards.

A total of $229,205,510 in budget authority for 29,296 housing choice vouchers was awarded to recipients under all of the above-mentioned categories.

In accordance with Section 102(a)(4)(C) of the Department of Housing and Urban Development Reform Act of 1989 (103 Stat. 1987, 42 U.S.C. 3545), the Department is publishing the names, addresses, and amounts of those awards as shown in Appendix A.

Dated: March 29, 2006.
Orlando J. Cabrera,
Assistant Secretary for Public and Indian Housing.

Appendix A—Section 8 Rental Assistance Programs Announcement of Awards for Fiscal Year 2004
Housing agency | Address | Units | Award
Hope VI Vouchers:
HA of Birmingham Dist | 1826 3rd Ave. South, Birmingham, AL 35233 | 353 | 2,096,820
Mobile Housing Board | PO Box 1345, Mobile, AL 36633 | 481 | 2,447,328
HA Decatur | PO Box 878, Decatur, AL 35602 | 100 | 402,000
Wilmington HA | 400 Walnut St, Wilmington, DE 19801 | 180 | 1,274,400
Miami Dade HA | 1401 NW 7th St, Miami, FL 33125 | 450 | 3,733,800
HA Daytona Beach | 118 Cedar St, Daytona Beach, FL 32114 | 277 | 1,579,908
HA Lake Wales | 10 W. Sessoms Ave, Lake Wales, FL 33859 | 100 | 630,000
HA Tallahassee | 2940 Grady Rd, Tallahassee, FL 32312 | 47 | 302,868
HA Tampa | 1514 Union St., Tampa, FL 33607 | 155 | 1,222,020
Clearwater HA | 210 South Ewing, Clearwater, FL 33757 | 284 | 1,755,120
HA Atlanta GA | 230 John Wesley Dobbs Ave., NE, Atlanta, GA 30303 | 434 | 3,853,920
HA Marietta | PO Drawer K, Marietta, GA 30061 | 124 | 1,199,328
HA Americus | 825 N Mayo St, Americus, GA 31709 | 62 | 273,792
Menard County HA | PO Box 168, Petersburg, IL 62675 | 13 | 55,692
Louisville HA | 420 South Eighth St, Louisville, KY 40203 | 75 | 488,550
New Orleans HA | PO Box 6409, New Orleans, LA 70174 | 50 | 346,200
Shreveport HA | 2500 Line Ave, Shreveport, LA 71104 | 100 | 492,000
Boston HA | 52 Chauncy St, Boston, MA 02111 | 196 | 2,648,352
HA of the City of Frederick | 209 Madison St, Frederick, MD 21701 | 40 | 381,120
Benton Harbor HSG Comm | 721 Natewells Sr. Dr, Benton Harbor, MI 49022 | 20 | 82,560
Raleigh HA | PO Box 28007, Raleigh, NC 27611 | 141 | 1,067,652
HA Charlotte | 1301 South Blvd, Charlotte, NC 28236 | 309 | 2,476,188
Jersey City HA | 400 U.S. Highway #1, Jersey City, NJ 07306 | 96 | 791,424
Camden HA | 1300 Admiral Wilson Blvd, Camden, NJ 08101 | 188 | 1,743,888
Atlantic City HA | 227 Vermont Ave, Atlantic City, NJ 08404 | 30 | 232,560
County of Clark HA | 5390 East Flamingo Rd, Las Vegas, NV 89122 | 66 | 498,960
The Muni HA City of Yonkers | 1511 Central Park Ave, Yonkers, NY 10710 | 200 | 2,121,600
Chester HA | 1010 Madison St, Chester, PA 19016 | 184 | 1,552,224
Fayette County HA | 624 Pittsburgh Rd, Uniontown, PA 15401 | 40 | 159,360
HA Columbia | 1917 Harden St, Columbia, SC 29204 | 214 | 1,250,616
City of Spartanburg HA | PO Box 2828, Spartanburg, SC 29304 | 156 | 835,536
Metropolitan Dev & HSG | 701 South Sixth St, Nashville, TN 37202 | 200 | 1,214,400
Galveston HA | 4700 Broadway, Galveston, TX 77551 | 20 | 122,160
HA City of Seattle | 120 Sixth Ave North, Seattle, WA 98109 | 267 | 2,499,120
HA County of King | 600 Andover Park West, Seattle, WA 98188 | 300 | 2,530,800
HA of the City of Milwaukee | 809 North Broadway, Milwaukee, WI 53201 | 151 | 784,596
Total for Hope VI Vouchers |  | 6,103 | $45,146,862
Housing Tenant Protection:
HA Phenix City | PO Box 338, Phenix City, AL 36867 | 64 | 286,702
HA City of Montgomery | 1020 Bell St, Montgomery, AL 36104 | 64 | 339,364
HA Guntersville | PO Box 4, Guntersville, AL 35976 | 46 | 187,022
HA Albertville | PO Box 1126, Albertville, AL 35950 | 50 | 178,076
Benton Public HA | 1200 West Pine St, Benton, AR 72015 | 93 | 368,890
Oakland HA | 1619 Harrison St, Oakland, CA 94612 | 120 | 1,667,490
City of Los Angeles HA | 2600 Wilshire Blvd, 3rd Fl, Los Angeles, CA 90057 | 48 | 417,504
Sacramento HSG & Redev | PO Box 1834, Sacramento, CA 95812 | 156 | 924,755
City of Fresno HA | 1331 Fulton Mall, Fresno, CA 93776 | 39 | 216,606
Sacramento HSG & Redev | PO Box 1834, Sacramento, CA 95812 | 0 | 1,045,431
Kern County HA | 601 24th St, Bakersfield, CA 93301 | 24 | 113,232
San Bernardino County HA | 715 E. Brier Dr, San Bernardino, CA 92408 | 40 | 441,616
County of San Joaquin HSG | 448 South Center St, Stockton, CA 95203 | 54 | 357,588
Riverside County HA | 5555 Arlington Ave, Riverside, CA 92504 | 64 | 451,456
County of Fresno HA | 1331 Fulton Mall, Fresno, CA 93776 | 31 | 174,778
County of Monterey HA | 123 Rico St, Salinas, CA 93907 | 48 | 380,640
County of Butte HA | 2039 Forest Ave, Ste 10, Chico, CA 95928 | 18 | 92,760
City of Alameda HA | 701 Atlantic Ave, Alameda, CA 94501 | 0 | 171,864
Long Beach HA | 521 E 4th St, Long Beach, CA 90802 | 72 | 675,284
Glendale HA | 141 North Glendale Ave #202, Glendale, CA 91206 | 8 | 62,096
Denver | 777 Grant St, Denver, CO 80203 | 5 | 50,680
Colorado Springs HAO | PO Box 1575, MC 1490, Colorado Springs, CO 80901 | 24 | 186,000
Lakewood | 445 S. Allison Pkwy, Lakewood, CO 80226 | 18 | 174,624
Garfield County | 2128 Railrd Ave, Rifle, CO 81650 | 42 | 237,384
CO Div of HSG | 1313 Sherman St, Room 518, Denver, CO 80203 | 7 | 52,030
Waterbury HA | 2 Lakewood Rd, Waterbury, CT 06704 | 65 | 484,250
Conn Dept of Social Services | 25 Sigourney St 9th Fl, Hartford, CT 06105 | 248 | 2,391,194
DC HA | 1133 North Capitol St NE, Washington, DC 20002 | 302 | 3,093,476
HA of Jacksonville | 1300 Broad St, Jacksonville, FL 32202 | 24 | 156,354
HA Tampa | 1514 Union St, Tampa, FL 33607 | 116 | 1,000,150
NW Florida Regional HA | PO Box 218, Graceville, FL 32440 | 5 | 27,800
Bradenton HA | 1307 5th St West, Bradenton, FL 34205 | 100 | 815,050
Gainesville HA | PO Box 1468, Gainesville, FL 32602 | 172 | 950,992
Broward County HAI | 1773 North State Rd 7, Lauderhill, FL 33313 | 113 | 861,490
City of Fort Myers | 1700 Medical Lane, Fort Myers, FL | 30 | 179,580
HA Savannah | 200 East Brd St, Savannah, GA 31402 | 13 | 140,942
HA Atlanta GA | 230 John Wesley Dobbs Ave. NE, Atlanta, GA 30303 | 531 | 5,412,468
HA Macon | PO Box 4928, Macon, GA 31208 | 46 | 255,622
HA Jonesboro | PO Box 458, Jonesboro, GA 30237 | 68 | 570,248
City and County of Honolulu | 715 South King St, Ste 311, Honolulu, HI 96813 | 126 | 1,005,938
City of Mason City | 10 1st St NW, Mason City, IA 50401 | 0 | 39,876
Area XV Multi-County HA | 417 North College, Agency, IA 52530 | 20 | 77,000
Chicago HA | 626 West Jackson Blvd, Chicago, IL 60661 | 132 | 1,116,380
Champaign County HA | 205 West Park Ave, Champaign, IL 61820 | 92 | 648,096
Quincy HA | 540 Harrison St, Quincy, IL 62301 | 130 | 309,782
HA of Cook County | 310 South Michigan Ave, 15th Fl, Chicago, IL 60604 | 96 | 1,125,804
HA of the County of Lake | 33928 N Route 45, Grayslake, IL 60030 | 151 | 1,329,580
Dupage HA | 128A South County Farm Rd, Wheaton, IL 60187 | 34 | 329,496
McHenry County HA | 1108 North Seminary Ave, Woodstock, IL 60098 | 80 | 629,810
McLean County HA | 104 East Wood, Bloomington, IL 61701 | 198 | 1,004,406
Gary HA | 578 Broadway, Gary, IN 46402 | 86 | 613,900
Bloomington HA | 1007 N Summit, Bloomington, IN 47402 | 27 | 178,748
Indiana Dept of Human Services | PO Box 6116, Indianapolis, IN 46206 | 5 | 26,400
Kansas City HA | 1124 North Ninth St, Kansas City, KS 66101 | 136 | 842,084
Nek-Cap, Inc | PO Box 380, Hiawatha, KS 66434 | 12 | 38,102
Ellis County PHA | c/o DSNWK, PO Box 1016, Hays, KS 67601 | 12 | 35,856
Covington HA | 638 Madison Ave, First Fl, Covington, KY 41011 | 16 | 88,038
Kentucky Housing Corp | 1231 Louisville Rd, Frankfort, KY 40601 | 53 | 236,872
St Landry Parish HA | PO Box 276, Washington, LA 70589 | 100 | 305,972
Holyoke HA | 475 Maple St, Holyoke, MA 01040 | 44 | 293,079
Comm Dev Prog Comm of MAE.O | 100 Cambridge St, Boston, MA 02114 | 0 | 35,582
HA of Baltimore City | 417 East Fayette St, Baltimore, MD 21201 | 207 | 1,439,516
HA of Prince George's County | 9400 Peppercorn Pl, Ste 200, Largo, MD 20774 | 114 | 1,183,702
Howard County HSG Comm | 6751 Columbia Gtwy Dr, 3rd Fl, Columbia, MD | 162 | 1,537,085
Co. Commissioners Charles Co. | 8190 Port Tobacco Rd, Port Tobacco, MD 20677 | 60 | 576,024
Harford County HSG Agency | 15 South Main St, Ste 106, Bel Air, MD 21014 | 12 | 75,432
Washington County HA | PO Box 2944, Hagerstown, MD 21741 | 24 | 118,898
Baltimore Co. Housing Office | 6401 York Rd, 1st Fl, Baltimore, MD 21201 | 82 | 520,256
Sanford HA | PO Box 1008, Sanford, ME 04073 | 104 | 606,281
Augusta HA | 33 Union St, Ste 3, Augusta, ME 04330 | 86 | 342,578
Maine State HA | 353 Water St, Augusta, ME 04330 | 54 | 304,152
Pontiac HSG Comm | 132 Franklin Blvd, Pontiac, MI 48341 | 50 | 429,140
Saginaw HSG Comm | PO Box 3225, Saginaw, MI 48605 | 56 | 267,344
River Rouge HSG Comm | PO Box 18174, River Rouge, MI 48218 | 135 | 975,080
Ypsilanti HSG Comm | 601 Armstrong Dr, Ypsilanti, MI 48197 | 0 | 679,602
Inkster HSG Comm | 4500 Inkster Rd, Inkster, MI 48141 | 196 | 1,230,061
Port Huron HSG Comm | 905 Seventh St, Port Huron, MI 48060 | 64 | 398,464
Lansing HSG Comm | 310 North Seymour St, Lansing, MI 48933 | 310 | 1,431,563
Grand Rapids HSG Comm | 1420 Fuller Ave SE, Grand Rapids, MI 49507 | 166 | 1,053,532
Taylor HSG Comm | 15270 Plaza South Dr, Taylor, MI 48180 | 46 | 357,184
Ferndale HSG Comm | 415 Withington, Ferndale, MI 48220 | 87 | 894,783
Lapeer HSG Comm | 544 North Saginaw, Ste 109, Lapeer, MI 48446 | 102 | 623,208
Wyoming HSG Comm | 2450 36th St, SW, Wyoming, MI 49509 | 127 | 804,418
Michigan State HSG Dev Auth | PO Box 30044, Lansing, MI 48909 | 1,201 | 8,277,220
St. Cloud HRA | 1225 West St. Germain, St. Cloud, MN 56301 | 12 | 61,752
St Louis Park HRA | 5005 Minnetonka Blvd, St. Louis Park, MN 55416 | 0 | 8,000
NW MN Multi-County HRA | PO Box 128, Mentor, MN 56736 | 24 | 81,240
Southeast MN Multi-County HRA | 134 East Second St, Wabasha, MN 55981 | 0 | 2,750
Washington County HRA | 321 Broadway Ave, St. Paul Park, MN 55071 | 60 | 476,654
South Central Multi County HRA | 410 Jackson St, Ste 300, Mankato, MN 56002 | 64 | 255,264
St. Louis HA | 4100 Lindell Blvd, St. Louis, MO 63108 | 68 | 390,606
St. Louis County HAO | 8865 Natural Bridge, St. Louis, MO 63121 | 53 | 321,110
Lees Summit HA | 111 South Grand, Lees Summit, MO 64063 | 36 | 283,048
Pulaski County PHA | PO Box 69, Richland, MO 65556 | 48 | 207,985
HA Mississippi Regional No. 5 | PO Box 419, Newton, MS 39345 | 56 | 226,698
Miss Regional HA VIII | PO Box 2347, Gulfport, MS 39505 | 10 | 51,580
Jackson Hous Auth | 2747 Livingston Rd, Jackson, MS 39283 | 69 | 380,187
Whitefish | 100 East Fourth St, Whitefish, MT 59937 | 16 | 86,852
MDOC | 836 Front St, Helena, MT 59620 | 50 | 241,100
HA Winston-Salem | 901 Cleveland Ave, Winston-Salem, NC 27101 | 150 | 922,450
HA Wadesboro | 200 W Short Plaza, Wadesboro, NC 28170 | 7 | 25,946
Isothermal Planning & Dev Comm | PO Box 841, Rutherfordton, NC 28139 | 34 | 167,702
Grand Forks | 1405 1st Ave North, Grand Forks, ND 58203 | 198 | 950,004
Omaha HA | 540 South 27th St, Omaha, NE 68105 | 259 | 1,678,716
Jersey City HA | 400 U.S. Highway #1, Jersey City, NJ 07306 | 20 | 113,240
Edison HA | Willard Dunham Dr, Edison, NJ 08837 | 233 | 1,668,424
East Orange HA | 160 Halsted St, East Orange, NJ 07018 | 0 | 398,452
Fort Lee HA | 1403 Teresa Dr, Fort Lee, NJ 07024 | 85 | 847,636
Bernalillo County HSG Dept | 1900 Bridge Blvd, SW, Albuquerque, NM 87105 | 152 | 974,018
North Las Vegas HA | 1632 Yale St, North Las Vegas, NV 89030 | 44 | 407,016
County of Clark HA | 5390 East Flamingo Rd, Las Vegas, NV 89122 | 138 | 1,066,956
HA of Rochester | 675 West Main St, Rochester, NY 14611 | 365 | 1,869,328
HA of Ithaca | 800 S Plain St, Ithaca, NY 14850 | 99 | 556,474
Town of Amherst | 1195 Main St, Buffalo, NY 14209 | 37 | 175,888
The City of New York DHPD | 100 Gold St Room 5N, New York, NY 10007 | 1,816 | 26,707,500
Town of Babylon HAA | 281 Phelps Lane, Rm 9, North Babylon, NY 11703 | 120 | 1,517,520
City of Buffalo | 470 Franklin St, Buffalo, NY 14202 | 194 | 1,165,538
Town of Glenville | 242 Union St, Schenectady, NY 12305 | 7 | 32,914
New York State HSG Fin Agency | 25 Beaver St, Rm 674, New York, NY 10004 | 515 | 5,967,602
Columbus Metro. HA | 880 East 11th Ave, Columbus, OH 43211 | 309 | 1,955,106
Cuyahoga MHA | 1441 West 25th St, Cleveland, OH 44113 | 18 | 130,610
Cincinnati Metropolitan HA | 16 West Central Pkwy, Cincinnati, OH 45210 | 30 | 152,661
Akron MHA | 100 W. Cedar St, Akron, OH 44307 | 6 | 39,720
Mansfield MHA | 150 Park Ave West, Mansfield, OH 44901 | 32 | 139,712
Greene Metro HA | 538 North Detroit St, Xenia, OH 45385 | 46 | 265,682
Chillicothe Met HA | 178 West Fourth St, Chillicothe, OH 45601 | 80 | 397,198
Medina MHA | 850 Walter Rd, Medina, OH 44256 | 24 | 140,578
Wayne MHA | 200 South Market St, Wooster, OH 44691 | 81 | 365,649
Hamilton County PHA | 630 Main St, 1st Fl, Cincinnati, OH 45202 | 17 | 133,592
Parma PHA | 5983 W. 54th St #124, Cleveland, OH 44129 | 0 | 320,340
Seneca MHA | 150 Park Ave West, Mansfield, OH 44901 | 10 | 36,030
Marion Metro HA | 150 Park Ave West, Mansfield, OH 44901 | 40 | 190,722
Tulsa | PO Box 6369, Tulsa, OK 74148 | 60 | 380,420
Clackamas County HA | PO Box 1510, Oregon City, OR 97045 | 18 | 128,918
HA of Douglas County | 902 West Stanton St, Roseburg, OR 97470 | 1 | 4,037
HA of Lincoln County | PO Box 1470, Newport, OR 97365 | 5 | 24,214
Linn-Benton HA | 1250 SE Queen Ave, Albany, OR 97322 | 10 | 58,340
HA of Malheur County | 959 Fortner St, Ontario, OR 97914 | 10 | 48,718
HA City of Pittsburgh | 200 Ross St, Pittsburgh, PA 15219 | 87 | 523,946
McKeesport HA | 2901 Brownlee Ave, McKeesport, PA 15132 | 7 | 32,436
Allegheny County HA | 625 Stanwix St, 12th Fl, Pittsburgh, PA 15222 | 18 | 103,452
Reading HA | 400 Hancock Blvd, Reading, PA 19611 | 1 | 5,578
HA of the County of Butler | 114 Woody Dr, Butler, PA 16001 | 52 | 250,744
Erie City HA | 606 Holland St, Erie, PA 16501 | 106 | 425,110
Westmoreland County HAOR | 223 South Greengate Rd, Greensburg, PA 15601 | 8 | 39,708
Wilkes Barre HA | 50 Lincoln Plz S. Wilkes-Barre, Wilkes Barre, PA | 0 | 346,846
Municipality of Trujillo Alto | PO Box 1869, Trujillo Alto, PR 00977 | 80 | 528,800
Puerto Rico HSG Finance Co | Call Box 71361-GPO, San Juan, PR 00936 | 69 | 441,018
HA Columbia | 1917 Harden St, Columbia, SC 29204 | 228 | 1,193,954
City of Rock Hill | PO Box 11579, Rock Hill, SC 29731 | 70 | 396,294
Pennington County | 1805 West Fulton St, Rapid City, SD 57702 | 19 | 109,696
Mobridge HA | PO Box 370, Mobridge, SD 57601 | 24 | 94,332
Yankton HSG & Redev Comm | PO Box 176, Yankton, SD 57078 | 24 | 81,890
HA Memphis | 700 Adams Ave, Memphis, TN 38105 | 104 | 546,965
Metropolitan Dev & HSG | 701 South Sixth St, Nashville, TN 37202 | 1 | 6,346
Kingsport HSG and Redev | PO Box 44, Kingsport, TN 37662 | 26 | 121,316
EL Paso HA | 5300 Paisano, El Paso, TX 79905 | 150 | 878,564
Corpus Christi HA | 3701 Ayers St, Corpus Christi, TX 78415 | 101 | 639,734
Dallas HA | 3939 N. Hampton Rd, Dallas, TX 75212 | 44 | 408,992
Waco HA | 1001 Washington, Waco, TX 76703 | 50 | 268,468
Brownwood HA | 1500 Terrace Dr., Brownwood, TX 76804 | 20 | 73,380
Beaumont HA | 4925 Concord Rd, Beaumont, TX 77708 | 39 | 215,286
Georgetown HA | PO Box 60, Georgetown, TX 78627 | 3 | 16,133
Abilene HA | 555 Walnut, Abilene, TX 79604 | 0 | 660,680
Tarrant County HA | 2100 Cir Dr, Ste 200, Fort Worth, TX 76119 | 0 | 529,914
Harris County HA | 8410 Lantern Point, Houston, TX 77054 | 214 | 1,786,962
Tyler | 213 N. Bonner, Tyler, TX 75710 | 56 | 366,391
Dallas County | 2377 N. Stemmons Frwy, Ste 200-LB 16, Dallas, TX | 171 | 1,323,640
Norfolk Redevelopment & HA | 201 Granby St, Norfolk, VA 23501 | 49 | 294,240
Richmond Redevelopment & HA | PO Box 26887, Richmond, VA 23261 | 378 | 2,888,910
Roanoke Redev & HA | 2624 Salem Trnpk, NW, Roanoke, VA 24017 | 153 | 714,574
Lynchburg Redev & HA | 918 Commerce St, Lynchburg, VA 24505 | 149 | 621,926
Harrisonburg Redev & HA | 286 Kelley St, Harrisonburg, VA 22801 | 143 | 734,350
Fairfax Co. Redev and HA | 3700 Pender Dr, Ste 300, Fairfax, VA 22030 | 22 | 235,180
Waynesboro Redev & HA | 1700 New Hope Rd, Waynesboro, VA 22980 | 100 | 390,472
City of Virginia Beach | 2424 Courthouse Dr, Virginia Beach, VA 23456 | 131 | 871,544
Prince William County | 15941 Donald Curtis Dr Ste 112, Woodbridge, VA 22191 |  | 14
Virginia HSG Dev Auth | 601 South Belvidere St, Richmond, VA 23220 | 323 | 1,598,939
HA County of King | 600 Andover Park West, Seattle, WA 98188 | 16 | 150,701
HA City of Yakima | 810 N 6th Ave, Yakima, WA 98902 | 30 | 151,820
HA City of Spokane | West 55 Mission St, Ste 104, Spokane, WA 99201 | 109 | 448,723
HA City of Walla Walla | 501 Cayuse St, Walla Walla, WA 99362 | 50 | 231,319
Mason County HA | PO Box 4460, Bremerton, WA 98312 | 5 | 25,826
HA of the City of Milwaukee | 809 North Brdway, Milwaukee, WI 53201 | 23 | 122,758
Milwaukee Co. HA | 2711 W Wells St, Room 102, Milwaukee, WI 53208 | 72 | 439,382
Janesville CDA | 18 North Jackson St, Janesville, WI 53547 | 93 | 496,434
Marinette Co. HA | 926 Main St, Wausaukee, WI 54177 | 20 | 62,700
Wisconsin HSG & Econ Dev Auth | PO Box 1728, Madison, WI 53701 | 12 | 51,770
Total for Housing Tenant Protection |  | 17,463 | $138,330,028
Public Housing Tenant Protection:
County of Contra Costa HA | 3133 Estudillo St, Martinez, CA 94553 | 94 | 1,134,768
HA Sarasota | 1300 Blvd of the Arts, Sarasota, FL 34236 | 36 | 261,360
HA Punta Gorda | 420 Myrtle St, Punta Gorda, FL 33950 | 200 | 1,113,600
HA Savannah | PO Box 1179 200 East Brd St, Savannah, GA 31402 | 210 | 1,385,268
HA Atlanta GA | 230 John Wesley Dobbs Ave. NE, Atlanta, GA 30303 | 712 | 6,599,232
Des Moines Municipal HA | 100 East Euclid, Ste 101, Des Moines, IA 50313 | 100 | 563,170
HA of the City of East STL | 700 North 20th St, East St Louis, IL 62205 | 28 | 178,080
Chicago HA | 626 West Jackson Blvd, Chicago, IL 60661 | 2,794 | 23,795,492
Peoria HA | 100 South Sheridan Rd, Peoria, IL 61605 | 214 | 1,123,448
Menard County HA | PO Box 168, Petersburg, IL 62675 | 16 | 64,926
Appalachian Foothills HA | 1214 Riverside Blvd, Wurtland, KY 41144 | 50 | 218,400
Boston HA | 52 Chauncy St, Boston, MA 02111 | 295 | 3,378,426
Moorhead Pub HSG Agency | 800 Second Ave North, Moorhead, MN 56560 | 46 | 192,096
Miss Regional HA VIII | PO Box 2347, Gulfport, MS 39505 | 100 | 506,856
HA High Point | 500 E Russell Ave, High Point, NC 27261 | 47 | 677,040
North Las Vegas HA | 1632 Yale St, North Las Vegas, NV 89030 | 44 | 389,568
Cuyahoga MHA | 1441 West 25th St, Cleveland, OH 44113 | 125 | 888,960
Trumbull MHA | 4076 Youngstown Rd SE, Warrne, OH 44484 | 84 | 400,836
Clinton Metropolitan HA | 478 Thorne Ave, Wilmington, OH 45177 | 30 | 141,120
Washington County HA | 100 Crumrine Tower Franklin St, Washington, PA 15301 |  | 56
Metropolitan Dev & HSG | 701 South Sixth St, Nashville, TN 37202 | 100 | 617,940
HA Jackson | PO Box 3188, Jackson, TN 38301 | 270 | 1,273,320
Midland County | 1710 Edwards, Midland, TX 79701 | 35 | 161,490
HA City of Seattle | 120 Sixth Ave North, Seattle, WA 98109 | 44 | 444,840
Total for Public Housing Tenant Protections |  | 5,730 | $45,728,620
Grand Total |  | 29,296 | $229,205,510

[FR Doc. E6-4957 Filed 4-5-06; 8:45 am]

BILLING CODE 4210-67-P